FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 8547N.

Name: Top Line Express, Inc.

Address: 150-30 132nd Avenue, Suite 208, Jamaica, NY 11434.

Date Revoked: April 16, 2014.

Reason: Voluntary surrender of license.

License No.: 015646NF.

Name: Universe Freight Brokers, Inc. dba Seacarriers.

Address: 1970 NW 70th Avenue, Miami, FL 33126.

Date Revoked: April 16, 2014.

Reason: Voluntary surrender of license.

License No.: 020911F.

Name: Cargois Inc. dba SV Logis Inc.

Address: 10700 Seymour Avenue, Franklin Park, IL 60131.

Date Revoked: October 29, 2013.

Reason: Failed to maintain a valid bond.

License No.: 021507N.

Name: Phil-Am Cargo Express, LLC.

Address: 2906 Keats Avenue, Clovis, CA 93611.

Date Revoked: April 25, 2014.

Reason: Voluntary surrender of license.

License No.: 022293N.

Name: MJ Group Limited—Morgan Jones, LLC.

Address: 1201 Corbin Street, Elizabeth, NJ 07201.

Date Revoked: April 17, 2014.

Reason: Failed to maintain a valid bond.

License No.: 023179N.

Name: Logic Global LLC.

Address: 1900 Hempstead Turnpike, Suite 405, East Meadow, NY 11554.

Date Revoked: April 10, 2014.

Reason: Voluntary surrender of license.

License No.: 023601NF.

Name: Trade Bridge Logistics, Inc.

Address: 103 N. 13th Street, Brooklyn, NY 11249.

Date Revoked: April 26, 2014.

Reason: Failed to maintain valid bonds.

License No.: 023837N.

Name: TBIF, LLC.

Address: 211 E. Main Street, Suite C, Bozeman, MT 59715.

Date Revoked: April 3, 2014.

Reason: Voluntary surrender of license.

License No.: 024256N.

Name: Dax Cargo Inc.

Address: 8514 NW 66th Street, Miami, FL 33166.

Date Revoked: April 23, 2014.

Reason: Failed to maintain a valid bond.

License No.: 024334NF.

Name: World Link Logistics Inc.

Address: 17022 De Groot Place, Cerritos, CA 90703.

Date Revoked: April 20, 2014.

Reason: Failed to maintain valid bonds.

Sandra L. Kusumoto.
Director, Bureau of Certification and Licensing.

[FR Doc. 2014-12142 Filed 5-23-14; 8:45 am]

BILLING CODE 6730-01-P